DEPARTMENT OF THE INTERIOR

Fish and Wildlife Service

Comprehensive Conservation Plan for Pea Island National Wildlife Refuge in Dare Co., NC

ACTION: Notice of Intent to conduct public scoping meetings to obtain suggestions and information on issues to include in the preparation of a Comprehensive Conservation Plan for Pea Island National Wildlife Refuge in Dare County, North Carolina.

SUMMARY: This notice advises the public that the U.S. Fish and Wildlife Service intends to gather information necessary to prepare a Comprehensive Conservation Plan and associated environmental documents pursuant to the National Environmental Policy Act and implementing regulations.

The Service will hold meetings as follows:

Monday, June 26, 2000

1 p.m.-4 p.m.

6 p.m.-9 p.m.

Rodanthe Community Center, Rodanthe, North Carolina 27968, (252) 987-2620

Tuesday, June 27, 2000

1 p.m.-4 p.m.

6 p.m.-9 p.m.

North Carolina State Aquarium, 374 Airport Road, Manteo, North Carolina 27954, (252) 473-3493

DATES: Written comments should be received within 30 days of this publication.

ADDRESSES: Comments and requests for information concerning this refuge may be addressed to: D.A. Brown, M.S., P.W.S., 1106 West Queen Street, P.O. Box 329, Edenton, North Carolina 27932, (252) 482-2364.

Information concerning the refuge may be found at the following website: http://rtncf-rci.ral.r4.fws.gov

If you wish to comment, you may submit your comments by any one of several methods. You may mail comments to the above address. You may also comment via the Internet to the following address: D_A_Brown@fws.gov. Please submit Internet comments as an ASCII file avoiding the use of special characters and any form of encryption. Please also include your name and return address in your Internet message. If you do not receive a confirmation from the system that we have received your Internet message, contact D.A. Brown directly at the above address. Finally, you may hand-deliver comments to Mr. Brown at 1106 West Queen Street, Edenton, North Carolina. Our practice is to make comments, including names and home addresses of respondents, available for public review during regular business hours. Individual respondents may request that we withhold their home address from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

SUPPLEMENTARY INFORMATION: It is the policy of the Fish and Wildlife Service to have all lands within the National Wildlife Refuge System managed in accordance with an approved Comprehensive Conservation Plan. The plan guides management decisions and identifies the goals, objectives, and strategies for achieving refuge purposes. Public input into this planning process is encouraged. The plan will provide other agencies and the public with a clear understanding of the desired conditions of the refuge and how the Service will implement management strategies.

Pea Island National Wildlife Refuge was established by Presidential Executive Order 7864 in April 19938, as a refuge and breeding ground for migratory birds and other wildlife.

Dated: May 30, 2000.
Sam D. Hamilton,
Regional Director.

[FR Doc. 00-13943 Filed 6-2-00; 8:45 am]

BILLING CODE 4310-55-M